DEPARTMENT OF COMMERCE

National Oceanic and Atmospheric Administration

[RTID 0648-XB528]

South Atlantic Fishery Management Council; Public Hearings

AGENCY: National Marine Fisheries Service (NMFS), National Oceanic and Atmospheric Administration (NOAA), Commerce.

ACTION: Notice of public hearings.

SUMMARY: The South Atlantic Fishery Management Council (Council) will hold a series of public hearings via webinar pertaining to Amendment 34 to the Fishery Management Plan for Coastal Migratory Pelagic Resources in the Gulf of Mexico and Atlantic Region. The amendment addresses Atlantic migratory group king mackerel catch levels and Atlantic king and Spanish mackerel management measures.

DATES: The public hearings will be held via webinar on November 15 and 16, 2021. See SUPPLEMENTARY INFORMATION.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The public hearings will be conducted via webinar. Registration for the webinars is required. The public hearings will begin at 6 p.m. Eastern. Public hearing documents, an online public comment form, and webinar registration information will be posted to the Council's website at https://safmc.net/safmc-meetings/public-hearings-scoping-meetings/ as it becomes available. Public comments must be received by 5 p.m. on November 17, 2021.

Amendment 34 to the Coastal Migratory Pelagics FMP

The South Atlantic and Gulf of Mexico Fishery Management Councils are considering action to address updated scientific information provided by an update to the Southeast Data Assessment and Review (SEDAR) stock assessment for Atlantic king mackerel (SEDAR 38 Update 2020). The stock assessment, which included revised recreational landings that are based on the Marine Recreational Information Program's newer Fishing Effort Survey method, indicated that Atlantic king mackerel was not overfished nor undergoing overfishing. The draft amendment currently includes actions to update the Atlantic king mackerel acceptable biological catch, annual catch limits, sector allocations, and recreational annual catch targets, and modify recreational bag limits, commercial and recreational minimum size limits, and the requirement to land Atlantic king and Spanish mackerel with heads and fins intact.

During the public hearings, Council staff will present an overview of the amendment and will be available for informal discussions and to answer questions via webinar. Members of the public will have an opportunity to go on record to record their comments for consideration by the Council.

Special Accommodations

These hearings are physically accessible to people with disabilities. Requests for auxiliary aids should be directed to the Council office (see ADDRESSES) 3 days prior to the meeting.

Note: The times and sequence specified in this agenda are subject to change.

Authority: 16 U.S.C. 1801 et seq.

Dated: October 25, 2021.
Tracey L. Thompson,
Acting Deputy Director, Office of Sustainable Fisheries, National Marine Fisheries Service.

[FR Doc. 2021-23524 Filed 10-28-21; 8:45 am]

BILLING CODE 3510-22-P